DEPARTMENT OF LABOR

Employment and Training Administration

[TA-W-64,760]

HDM Furniture Industries, Incorporated, a Subsidiary of HDM/Drexek-Heritage, Plant #75/CRC, a Subsidiary of Furniture Brands International, Incorporated, Morganton, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 23, 2009, applicable to workers of HDM Furniture Industries, Incorporated, a subsidiary of HDM/Drexel-Heritage, Plant #75/CRC, Morganton, North Carolina. The notice was published in the Federal Register on February 10, 2009 (74 FR 6653).

At the request of the State agency, the Department reviewed the certification for workers of the subject firm. The workers perform various administrative functions for an affiliated upholstery and casegoods manufacturing facility.

New information shows that Furniture Brands International, Incorporated is the parent firm of HDM Furniture Industries, Incorporated, a subsidiary of HDM/Drexel-Heritage, Plant #75/CRC. Workers wages at the subject firm are being reported under the Unemployment Insurance (UI) tax account for Furniture Brands International, Incorporated.

Accordingly, the Department is amending this certification to properly reflect this matter.

The intent of the Department's certification is to include all workers of HDM Furniture Industries, Incorporated, a subsidiary of HDM/Drexel-Heritage, Plant #75/CRC, a subsidiary of Furniture Brands International, Incorporated, Morganton, North Carolina who were adversely affected by increased imports and a shift in the production of upholstered furniture and casegoods to China, Columbia, the Philippines and Indonesia.

The amended notice applicable to TA-W-64,760 is hereby issued as follows:

All workers of HDM Furniture Industries, Incorporated, a subsidiary of HDM/Drexel-Heritage Plant #75/CRC, a subsidiary of Furniture Brands International, Incorporated, Morganton, North Carolina, who became totally or partially separated from employment on or after December 19, 2007 through January 23, 2011, are eligible to apply for adjustment assistance under Section 223 of the Trade Act of 1974, and are also eligible to apply for alternative trade adjustment assistance under Section 246 of the Trade Act of 1974.

Signed at Washington, DC this 19th day of October 2009.
Elliott S. Kushner,
Certifying Officer, Division of Trade Adjustment Assistance.

[FR Doc. E9-27019 Filed 11-9-09; 8:45 am]

BILLING CODE 4510-FN-P